DEPARTMENT OF LABOR

Employment and Training Administration

Notice of a Change in Status of the Extended Benefit (EB) Program for Alaska, Kansas, North Carolina, New Hampshire, New Jersey, New York, Oregon, Texas, and Vermont

AGENCY: Employment and Training Administration, Labor.

ACTION: Notice.

This notice announces a change in benefit period eligibility under the EB program for Alaska, Kansas, North Carolina, New Hampshire, New Jersey, New York, Oregon, Texas, and Vermont.

The following changes have occurred since the publication of the last notice regarding the States' EB status:

Based on the data released by the Bureau of Labor Statistics on June 19, 2020, the seasonally-adjusted total unemployment rates for Alaska, Kansas, North Carolina, New Hampshire, New Jersey, New York, Oregon, Texas, and Vermont rose to meet the 8.0% threshold to trigger “on” to a high unemployment period in EB. The payable period for these states under the high unemployment period begins July 5, 2020, and eligibility for claimants has been extended from up to 13 weeks of potential duration to up to 20 weeks of potential duration in the EB program.

The trigger notice covering state eligibility for the EB program can be found at: http://ows.doleta.gov/unemploy/claims_arch.as.

Information for Claimants

The duration of benefits payable in the EB program, and the terms and conditions on which they are payable, are governed by the Federal-State Extended Unemployment Compensation Act of 1970, as amended, and the operating instructions issued to the states by the U.S. Department of Labor. In the case of a state beginning an EB period, the State Workforce Agency will furnish a written notice of potential entitlement to each individual who has exhausted all rights to regular benefits and is potentially eligible for EB (20 CFR 615.13 (c)(1)). Persons who believe they may be entitled to EB, or who wish to inquire about their rights under the program, should contact their State Workforce Agency.

FOR FURTHER INFORMATION CONTACT: U.S. Department of Labor, Employment and Training Administration, Office of Unemployment Insurance Room S-4524, Attn: Thomas Stengle, 200 Constitution Avenue NW, Washington, DC 20210, telephone number (202) 693-2991 (this is not a toll-free number) or by email: Stengle.Thomas@dol.gov.

Signed in Washington, DC.
John Pallasch,
Assistant Secretary for Employment and Training.

[FR Doc. 2020-14350 Filed 7-2-20; 8:45 am]

BILLING CODE 4510-FW-P